DEPARTMENT OF TRANSPORTATION

Surface Transportation Board

[STB Finance Docket No. 34308]

Central Midland Railway Company—Lease and Operation Exemption—Union Pacific Railroad Company

Central Midland Railway Company (CMRC), a Class III rail carrier, has filed a verified notice of exemption under 49 CFR 1150.41 to lease and operate approximately 8.65 miles of rail line and related industrial tracks currently owned and operated by Union Pacific Railroad Company (UP). The rail line, known as the Lackland Sub-Division, extends from milepost 10.35 at Rock Island Junction, MO, to milepost 19, located west of Vigus, MO. CMRC certifies that the projected annual revenues from the leased line will not result in the creation of a Class I or Class II rail carrier. The effective date of the exemption was January 15, 2003 (7 days after the notice was filed) and the parties expected to consummate the transaction on January 19, 2003.

If this notice contains false or misleading information, the exemption is void ab initio. Petitions to revoke the exemption under 49 U.S.C. 10502(d) may be filed at any time. The filing of a petition to revoke will not automatically stay the transaction.

An original and 10 copies of all pleadings, referring to STB Finance Docket No. 34308, must be filed with the Surface Transportation Board, 1925 K Street, NW., Washington, DC 20423-0001. In addition, one copy of each pleading must be served on John Broadley, John H. Broadley & Associates, 1054 31st Street NW., Suite 200, Washington, DC 20007.

Board decisions and notices are available on our Web site at http://www.stb.dot.gov.

Decided: January 17, 2003.
By the Board, David M. Konschnik, Director, Office of Proceedings.
Vernon A. Williams,
Secretary.

[FR Doc. 03-1612 Filed 1-24-03; 8:45 am]

BILLING CODE 4915-00-P